DEPARTMENT OF TRANSPORTATION

Federal Aviation Administration

Forty-Fourth Meeting, RTCA Special Committee 186: Automatic Dependent Surveillance-Broadcast (ADS-B)

AGENCY: Federal Aviation Administration (FAA), DOT.

ACTION: Notice of RTCA Special Committee 186 Automatic Dependent Surveillance-Broadcast (ADS-B) meeting.

SUMMARY: The FAA is issuing this notice to advise the public of a meeting of RTCA Special Committee 186 Automatic Dependent Surveillance-Broadcast (ADS-B).

DATES: The meeting will be held April 21-25, 2008, at 9 a.m. (unless otherwise noted).

ADDRESSES: The meeting will be held at RTCA Conference Rooms, 1828 L Street, NW., Suite 805, Washington, DC 20036.

FOR FURTHER INFORMATION CONTACT: (1) RTCA Secretariat, 1828 L Street, NW., Suite 805, Washington, DC 20036, (202) 833-9339; fax (202) 833-9434 Web site http://www.rtca.org.

SUPPLEMENTARY INFORMATION: Pursuant to section 10(a)(2) of the Federal Advisory Committee Act (Pub. L. 92-463, 5 U.S.C. Appendix 2), notice is hereby given for a Special Committee 186 meeting. The agenda will include:

April 21

• All Day, ASSAP & CDTI Subgroups, MacIntosh-NBAA Room & Hilton ATA Room.

• All Day, RFG, Colson Board Room.

• All Day, WG-1/ATSA SURF IA, ARINC Room.

April 22

• All Day, ASSAP & CDTI Subgroups, MacIntosh-NBAA Room & Hilton ATA Room.

• All Day, RFG, Colson Board Room.

• All Day, WG-1/ATSA SURF IA, ARINC Room.

April 23

• All Day, ASSAP & CDTI Subgroups, MacIntosh-NBAA Room & Hilton ATA Room.

• All Day, RFG, Colson Board Room.

• All Day, WGI/ATSA SURF IA, ARINC Room.

April 24-25

• Open Plenary (Chairman's Introductory Remarks, Review Meeting Agenda, Review/Approval of the Forty-Third Meeting Summary, RTCA Paper No. 046-08/SC186-259, Date, Place, and Time of Next Meeting).

• FAA Surveillance and Broadcast Services (SBS) Program—Status.

• Working Group Reports.

○ WG-1—Operations and Implementation.

○ WG-2—TIS-B MASPS.

○ WG-3—1090 MHz MOPS.

○ WG-4—Applications Technical Requirements.

○ WG-5—UAT MOPS.

○ RFG—Requirements Focus Group.

• Consider for Approval—New Document—Safety, Performance and Interoperability Requirements Document for the In-trail Procedure in Oceanic Airspace (ATSA-ITP) Application, RTCA Paper No. 059-08/SC186-260.

• Consider for Approval—New Document—Minimum Operational Performance Standards (MOPS) for Aircraft Surveillance Applications Systems (ASAS), RTCA Paper No. 071-08/SC196-261.

• Review of EUROCAE Activities.

• Closing Plenary Session (New/Other Business, Review Actions Items/Work Program, Adjourn).

Note

• ASAS—Aircraft Surveillance Applications System.

• ASSAP—Airborne Surveillance & Separation Assurance Processing.

• CDTI—Cockpit Display of Traffic Information.

• MOPS—Minimum Operational Performance Standards.

• REG—Requirements Focus Group.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 27, 2008.
Francisco Estrada C.,
RTCA Advisory Committee.

[FR Doc. E8-6929 Filed 4-3-08; 8:45 am]

BILLING CODE 4910-13-M